DEPARTMENT OF ENERGY

Federal Energy Regulatory Commission

Combined Notice of Filings #1

Take notice that the Commission received the following electric rate filings:

Docket Numbers: ER10-1819-021; ER10-1818-019; ER10-1817-019; ER10-1820-024.

Applicants: Northern States Power Company, a Minnesota corporation.

Description: Notice of Change in Status of Northern States Power Company, a Minnesota corporation, et al.

Filed Date: 6/28/19.

Accession Number: 20190628-5206.

Comments Due: 5 p.m. ET 7/19/19.

Docket Numbers: ER10-3077-007; ER10-3071-007; ER10-3074-007; ER10-3075-007; ER10-3076-007; ER14-1342-004; ER14-608-004; ER15-876-004; ER16-1644-004; ER17-1214-003; ER19-537-003.

Applicants: CalPeak Power LLC, CalPeak Power—Border LLC, CalPeak Power—Enterprise LLC, CalPeak Power—Panoche LLC, CalPeak Power—Vaca Dixon LLC, Midway Peaking, LLC, Malaga Power, LLC, MRP San Joaquin Energy, LLC, MRP Generation Holdings, LLC, High Desert Power Project, LLC, Coso Geothermal Power Holdings, LLC.

Description: Updated Market Power Analysis for the Southwest Region of CalPeak Power LLC, et al.

Filed Date: 6/28/19.

Accession Number: 20190628-5237.

Comments Due: 5 p.m. ET 8/27/19.

Docket Numbers: ER14-2939-007; ER14-2465-010; ER14-2466-010; ER15-2728-009; ER15-632-009; ER15-634-009.

Applicants: Imperial Valley Solar Company (IVSC) 2,LLC, CID Solar, LLC, RE Camelot LLC, RE Columbia Two LLC, Maricopa West Solar PV, LLC, Cottonwood Solar LLC.

Description: Triennial Market Power Analysis for the Southwest Region of the Dominion Companies.

Filed Date: 6/28/19.

Accession Number: 20190628-5234.

Comments Due: 5 p.m. ET 8/27/19.

Docket Numbers: ER16-1255-014; ER15-1579-015; ER15-1582-016; ER15-1914-017; ER15-2679-013; ER15-2680-013; ER15-760-016; ER15-762-017; ER16-1609-007; ER16-1738-011; ER16-1901-011; ER16-1955-011; ER16-1956-011; ER16-1973-011; ER16-2201-010; ER16-2224-010; ER16-2541-010; ER16-2578-011; ER16-468-011; ER16-474-012; ER16-890-012; ER17-1864-009; ER17-1871-009; ER17-1909-009; ER17-306-010; ER17-544-010; ER18-1667-004; ER18-2327-003; ER18-2492-005; ER19-846-004; ER19-847-004.

Applicants: Antelope Big Sky Ranch LLC, Antelope DSR 1, LLC, Antelope DSR 2, LLC, Antelope DSR 3, LLC, Antelope Expansion 2, LLC, Bayshore Solar B, LLC, Bayshore Solar A, LLC, Bayshore Solar C, LLC, Beacon Solar 1, LLC, Beacon Solar 3, LLC, Beacon Solar 4, LLC, Central Antelope Dry Ranch C LLC, Elevation Solar C LLC, FTS Master Tenant 1, LLC, FTS Master Tenant 2, LLC, ID Solar 1, LLC, Latigo Wind Park, LLC, North Lancaster Ranch LLC, Pioneer Wind Park I, LLC, Riverhead Solar Farm, LLC, San Pablo Raceway, LLC, Sandstone Solar LLC, Sierra Solar Greenworks LLC, Solverde 1, LLC, Summer Solar LLC, Western Antelope Blue Sky Ranch A LLC, Western Antelope Blue Sky Ranch B LLC, Western Antelope Dry Ranch LLC, 65HK 8me LLC, 67RK 8me LLC, 87RL 8me LLC.

Description: Triennial Market Power Update for the Northwest Region of Antelope Big Sky Ranch LLC, et. al.

Filed Date: 6/28/19.

Accession Number: 20190628-5271.

Comments Due: 5 p.m. ET 8/27/19.

Docket Numbers: ER19-1166-000.

Applicants: ISO New England Inc.

Description: Response of ISO New England Inc. to June 6, 2019 Request for Additional Information Regarding Results of FCA 13.

Filed Date: 6/28/19.

Accession Number: 20190628-5239.

Comments Due: 5 p.m. ET 7/19/19.

Docket Numbers: ER19-2290-000.

Applicants: Arizona Public Service Company.

Description: § 205(d) Rate Filing: Rate Schedule No. 293 Dry Lakes Pseudo-Tie Agreement to be effective 8/28/2019.

Filed Date: 6/28/19.

Accession Number: 20190628-5198.

Comments Due: 5 p.m. ET 7/19/19.

Docket Numbers: ER19-2291-000.

Applicants: PJM Interconnection, L.L.C.

Description: § 205(d) Rate Filing: Amendment to WMPA, SA No. 5147; Queue No. AD1-144 (amend) to be effective 6/15/2018.

Filed Date: 6/28/19.

Accession Number: 20190628-5199.

Comments Due: 5 p.m. ET 7/19/19.

Docket Numbers: ER19-2292-000.

Applicants: New England Power Pool Participants Committee.

Description: § 205(d) Rate Filing: Jul 2019 Membership Filing to be effective 6/1/2019.

Filed Date: 6/28/19.

Accession Number: 20190628-5200.

Comments Due: 5 p.m. ET 7/19/19.

Docket Numbers: ER19-2293-000.

Applicants: Southwest Power Pool, Inc.

Description: § 205(d) Rate Filing: 2041R9 Kansas City Board of Public Utilities PTP Agreement to be effective 9/1/2019.

Filed Date: 6/28/19.

Accession Number: 20190628-5201.

Comments Due: 5 p.m. ET 7/19/19.

Docket Numbers: ER19-2294-000.

Applicants: Mesquite Power, LLC.

Description: Compliance filing: Updated Market Power Analysis for the SW Region & New eTariff Baseline to be effective 6/29/2019.

Filed Date: 6/28/19.

Accession Number: 20190628-5202.

Comments Due: 5 p.m. ET 8/27/19.

Docket Numbers: ER19-2295-000.

Applicants: Midcontinent Independent System Operator, Inc., Northern States Power Company, a Minnesota corporation, Northern States Power Company, a Wisconsin corporation.

Description: § 205(d) Rate Filing: 2019-06-28_NSP Attachment O 30.9 East River Filing to be effective 7/1/2019.

Filed Date: 6/28/19.

Accession Number: 20190628-5213.

Comments Due: 5 p.m. ET 7/19/19.

Docket Numbers: ER19-2296-000.

Applicants: Pio Pico Energy Center, LLC.

Description: Market-Based Triennial Review Filing: Updated Market Power Analysis for the SW Region & Revised MBR Tariff to be effective 6/29/2019.

Filed Date: 6/28/19.

Accession Number: 20190628-5215.

Comments Due: 5 p.m. ET 8/27/19.

Docket Numbers: ER19-2297-000.

Applicants: Sierra Pacific Power Company.

Description: Tariff Cancellation: Cancellation of Rate Schedule No. 66 to be effective 8/28/2019.

Filed Date: 6/28/19.

Accession Number: 20190628-5228.

Comments Due: 5 p.m. ET 7/19/19.

Docket Numbers: ER19-2298-000.

Applicants: Sierra Pacific Power Company.

Description: Tariff Cancellation: Cancellation of Rate Schedule No. 71 to be effective 8/28/2019.

Filed Date: 6/28/19.

Accession Number: 20190628-5230.

Comments Due: 5 p.m. ET 7/19/19.

Docket Numbers: ER19-2299-000.

Applicants: Southwest Power Pool, Inc.

Description: § 205(d) Rate Filing: Revisions to Reduce Number of Identical Transmission Service Requests to be effective 8/28/2019.

Filed Date: 6/28/19.

Accession Number: 20190628-5232.

Comments Due: 5 p.m. ET 7/19/19.

Docket Numbers: ER19-2300-000.

Applicants: Georgia Power Company.

Description: § 205(d) Rate Filing: SR Arlington II Affected System Construction Agreement Filing to be effective 5/28/2019.

Filed Date: 6/28/19.

Accession Number: 20190628-5233.

Comments Due: 5 p.m. ET 7/19/19.

Docket Numbers: ER19-2301-000.

Applicants: PJM Interconnection, L.L.C.

Description: § 205(d) Rate Filing: Revisions to the OA, Sch. 6, sec 1.5 re: Market Efficiency Project Reevaluation to be effective 8/28/2019.

Filed Date: 6/28/19.

Accession Number: 20190628-5236.

Comments Due: 5 p.m. ET 7/19/19.

Docket Numbers: ER19-2303-000.

Applicants: NSTAR Electric Company.

Description: § 205(d) Rate Filing: Second Supplement to Stony Brook—Ludlow Agreement to be effective 7/1/2019.

Filed Date: 6/28/19.

Accession Number: 20190628-5242.

Comments Due: 5 p.m. ET 7/19/19.

Docket Numbers: ER19-2304-000.

Applicants: Georgia Power Company.

Description: § 205(d) Rate Filing: SR Terrell Affected System Construction Agreement Filing to be effective 5/28/2019.

Filed Date: 6/28/19.

Accession Number: 20190628-5243.

Comments Due: 5 p.m. ET 7/19/19.

Docket Numbers: ER19-2305-000.

Applicants: Valencia Power, LLC.

Description: Compliance filing: Updated Market Power Analysis for the SW Region & New eTariff Baseline to be effective 6/29/2019.

Filed Date: 6/28/19.

Accession Number: 20190628-5246.

Comments Due: 5 p.m. ET 8/27/19.

Docket Numbers: ER19-2306-000.

Applicants: NorthWestern Corporation.

Description: § 205(d) Rate Filing: SA 877—Firm Point-to-Point TSA with Energy Keepers to be effective 9/1/2019.

Filed Date: 6/28/19.

Accession Number: 20190628-5261.

Comments Due: 5 p.m. ET 7/19/19.

Docket Numbers: ER19-2307-000.

Applicants: Macquarie Energy LLC.

Description: § 205(d) Rate Filing: Request for Cat. 1 Seller Status in the NW Region & Revised MBR Tariff to be effective 6/29/2019.

Filed Date: 6/28/19.

Accession Number: 20190628-5262.

Comments Due: 5 p.m. ET 7/19/19.

Docket Numbers: ER19-2308-000.

Applicants: Macquarie Energy Trading LLC.

Description: § 205(d) Rate Filing: Request for Cat. 1 Seller Status in the NW Region & Revised MBR Tariff to be effective 6/29/2019.

Filed Date: 6/28/19.

Accession Number: 20190628-5270.

Comments Due: 5 p.m. ET 7/19/19.

Docket Numbers: ER19-2309-000.

Applicants: Utah Red Hills Renewable Park, LLC.

Description: § 205(d) Rate Filing: Request for Cat. 1 Seller Status in the NW Region & Revised MBR Tariff to be effective 6/29/2019.

Filed Date: 6/28/19.

Accession Number: 20190628-5272.

Comments Due: 5 p.m. ET 7/19/19.

Docket Numbers: ER19-2310-000.

Applicants: Arizona Public Service Company.

Description: § 205(d) Rate Filing: Service Agreement No. 373, E&P Agreement to be effective 5/31/2019.

Filed Date: 6/28/19.

Accession Number: 20190628-5284.

Comments Due: 5 p.m. ET 7/19/19.

Docket Numbers: ER19-2311-000.

Applicants: Consolidated Edison Company of New York, Inc.

Description: § 205(d) Rate Filing: PASNY Tariff Standby Revisions 6-2019 to be effective 7/1/2019.

Filed Date: 7/1/19.

Accession Number: 20190701-5005.

Comments Due: 5 p.m. ET 7/22/19.

Docket Numbers: ER19-2312-000.

Applicants: ISO New England Inc.

Description: Filing of Permanent De-List Bids and Retirement De-List Bids for 2023-24 Forward Capacity Auction (FCA 14) of ISO New England, Inc.

Filed Date: 6/28/19.

Accession Number: 20190628-5287.

Comments Due: 5 p.m. ET 7/19/19.

Docket Numbers: ER19-2313-000.

Applicants: Pacific Gas and Electric Company.

Description: Notice of Termination of GSFA and GIA Service Agreement No. 58 of Pacific Gas and Electric Company.

Filed Date: 6/28/19.

Accession Number: 20190628-5292.

Comments Due: 5 p.m. ET 7/19/19.

Docket Numbers: ER19-2314-000.

Applicants: MidAmerican Central California Transco, LLC.

Description: Application to Recover Abandoned Plant Costs of MidAmerican Central California Transco, LLC.

Filed Date: 6/28/19.

Accession Number: 20190628-5293.

Comments Due: 5 p.m. ET 7/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2019.
Nathaniel J. Davis, Sr.,
Deputy Secretary.

[FR Doc. 2019-14425 Filed 7-5-19; 8:45 am]

BILLING CODE 6717-01-P